NATIONAL INSTITUTE FOR LITERACY

[CFDA No. 84.2571]

Literacy Leadership Fellowship Program

AGENCY: National Institute for Literacy.

ACTION: Notice Inviting Applications for the Literacy Leader Fellowship Program.

Purpose of Program: The Literacy Program is designed to provide Federal financial assistance to adult learners and to individuals pursuing careers in adult education or literacy in the areas of instruction, research, or innovation. Under the program, literacy workers and adult learners are applicants for fellowships.

Deadline for Transmittal of Applications: Applications must be received at the National Institute for Literacy no later than 5:00 p.m. May 8, 2000.

Available Funds: $125,000.

Estimated Range of Awards: $40,000-09$70,000.

Estimated Average Size of Awards: $60,000.

Estimated Number of Awards: 2-3.

Note: The National Institute for Literacy is not bound by any estimates in this notice.

Project Period: Projects will be not less than three and no more than 12 months of full or part-time activity. Projects will begin no earlier than September 2000, and end no later than September 2001.

Applicable Regulations: The regulations governing the National Institute for Literacy's Literacy Fellowship Program as published in the March 7, 2000 issue of the Federal Register. The regulations are also available on-line at http://www.nifl.gov/activities/fllwhome.htm.

While the Institute is administered by an Interagency agreement with the U.S. Departments of Education, Labor, and Health and Human Services, the specific policies and procedures of these agencies regarding rulemaking and administration of grants are not adopted by the Institute except as expressly stated in this Notice and in the regulations.

Transmittal of Applications: An original and seven (7) copies of applications for award must be received by the Institute on or before the deadline date by May 8, 2000.

Applications delivered by mail: Applications sent by mail must be addressed to National Institute for Literacy, 1775 I Street, NW, Suite 730, Washington, DC 20006-2417, Attention: (CFDA#84.257I).

An applicant is encouraged to use registered, certified, or first-mail.

Late applicants will be notified that their applications will not be considered, and their applications will be returned.

Applications delivered by Hand: Applications that are hand-delivered must be taken to the National Institute for Literacy, 1775 I Street, NW, Suite 730, Washington, DC 20006-2417.

The Institute will accept hand-delivered applications between 8:30 a.m. and 5:00 p.m. (Washington, DC time) daily, except Saturdays, Sundays and Federal holidays. Applications that are hand-delivered will not be accepted by the Institute after 5:00 p.m. on the due date:

Acknowledgement of Applications: The Institute will mail an Applicant Receipt Acknowledgment to each applicant within 15 days from the due date. If an applicant fails to receive the application acknowledgment, call the National Institute for Literacy at (202) 233-2055.

The applicant must indicate on the outside of the envelope the CFDA number of the competition under which the application is being submitted.

Application Forms: Applicants are required to submit the following forms, assurances and certifications:

(a) Application Information and Budget Summary (NIFL Form No. 001)

(b) Assurances—Non-Construction Programs (Standard Form 424B).

(c) Certification Regarding Lobbying: Debarment, Suspension, and other Responsibility Matters; and Drug-Free Workplace Requirements (ED 80-0013).

(d) Disclosure of Lobbying Activities (Standard Form LLL) (if applicable); and

(e) Certification of Eligibility for Federal Assistance in Certain Programs (ED 80-0016).

The NIFL form, assurances, and certifications must each have an original signature. No award can be made unless these forms are submitted.

Prescribed Format: (a) Applicants will also be required to submit a proposal narrative. The narrative should be no more than 8 pages in length.

(b) The narrative format should meet the following criteria:

(i) The application should be double spaced

(ii) The application should use 12 point font

(iii) The application should have one inch margins on all four sides.

(c) Applicants should also submit a resume, budget narrative, and four letters of recommendation.

Note: For applicants who propose to conduct the fellowship project on a part-time basis while undertaking other paid employment, one of the four required letter of recommendation must be from the applicant's employer, and must include a statement that the applicant's workload will not exceed 100% of time.

Prescribed Order: Applicants should arrange their application submission in the following order:

i. NIFL Form 001

ii. Budget Narrative

iii. Application Narrative

iv. Resume

v. Letters of Recommendation

vi. Standard Form 424B

vii. ED 80-0013

viii. Standard Form LLL (if applicable)

ix. ED 80-0016

Priorities: (a) The Director invites applications for Literacy Leader Fellowships that meet one of the following priorities for 2000.

(b) The priorities for 2000 are major areas of concern in the literacy field that are currently being addressed in the Institute's work.

(c) An application may be awarded up to 5 bonus points for addressing a priority, depending on how well the application meets the priority.

(d) The publication of these priorities does not bind the Institute to fund only applications addressing a priority. The Director is especially interested in fellowship applications that address one of the priorities, but not to the exclusion of other significant issues that may be proposed by applicants.

(e) The priorities selected from the regulations for 2000 are as follows:

(1) Developing Leadership in Adult Learners. Because Adult learners are the true experts on literacy, they are an important resource for the field. Their firsthand experience as “customers” of the literacy system can be invaluable in assisting the field in moving forward, particularly in terms of raising public awareness and understanding about literacy. Projects that enhance best practices or the adult learner network will be given priority consideration.

(2) Expanding the Use of Technology in Literacy Programs. One of the NIFL'S major projects is the Literacy Information and Communication System (LINCS), an Internet based information system that provides timely information and abundant resources to the literacy community. Keeping the literacy community up to date in the information age is vital. Projects that improve or increase use of technology will be given priority consideration.

(3) Improving Accountability for Literacy Programs. Legislation that has passed both houses of the U.S. Congress emphasizes that literacy programs must develop accountability systems that demonstrate their effectiveness in helping adult learners contribute more fully in the workplace, family and community. Projects that focus on results-oriented literacy practice, especially as related to the Equipped for the Future (EFF) framework, are a priority.

(4) Raising Public Awareness about Literacy. The NIFL is leading a national effort to raise public awareness that literacy is part of the solution to many social concerns, including the well-being of children, health, welfare and the economy. Projects that enhance this effort will be given priority consideration.

SUPPLEMENTARY INFORMATION: National Educational Goal 6, which is included in the Goals 2000: Educate America Act, puts forward an ambitious agenda for adult literacy and lifelong learning in America. To further this goal, the Congress passed Public Law 105-220, the National Literacy Act of 1991, which was the first piece of national legislation to focus exclusively on literacy [the act has since been superseded by the Public Law 105-220, the Workforce Investment Act of 1998]. The overall intent of the National Literacy Act, as stated, is:

To enhance the literacy and basic skills of adults, to ensure that all adults in the United States acquire the basic skills necessary to function effectively and achieve the greatest possible opportunity in their work and in their lives and to strengthen and coordinate adult literacy programs.

In designing the National Literacy Act, among the primary concerns shared by the Congress and literacy stakeholders was the fragmentation and lack of coordination among the many efforts in the field. To address these concerns, the National Literacy Act created the National Institute for Literacy to:

(A) provide a national focal point for research, technical assistance, and research dissemination, policy analysis and program evaluation in the area of literacy; and

(B) facilitate a pooling of ideas and expertise across fragmented programs and research efforts.

Among the Institute's authorized activities is the awarding of fellowships to outstanding individuals who are pursuing careers in adult education or literacy in the areas of instruction, management, research, or innovation. These fellowships are to be awarded for activities that advance the field of adult education and literacy.

FOR FURTHER INFORMATION CONTACT: To receive an application package, contact EDPubs, P.O. Box 1398, Jessup, MD 20794, 1-800-228-8813, TTY/TTD 1-877-576-7734, email: edpubs@inet.ed.gov. Substantive questions regarding proposal content can be obtained from: Jennifer Cromley, National Institute for Literacy, 1775 I Street, NW, Suite 730, Washington, DC 20006-2417. Telephone: 202/233-2053, Fax: 202/233-2051. E-mail: jcromley@nifl.gov. The entire application package and information about the Literacy Leader Fellowship program is also available on-line (including all of the required forms) at http://www.nifl.gov/activities/fllwhome.htm.

Instructions for Estimated Public Reporting Burden

According to the Paperwork Reduction Act of 1995, no persons are required to respond to a collection of information unless it displays a valid OMB control number. The valid OMB control number for this information collection is 3430-0003, Expiration Date 6/30/2000. The time required to complete this information collection is estimated to average 20 hours per response, including the time for reviewing instructions, searching existing data sources, gathering and disseminating the data needed, and completing and reviewing the collection of information. If you have any comments concerning the accuracy of the time estimate or suggestions for improving this form, please write to: the National Institute for Literacy, 1775 I Street, NW, Suite 730, Washington, DC 20006-2417.

Program Authority: 20 U.S.C. 1213c.
Dated: March 2, 2000.
Carolyn Staley,
Deputy Director, NIFL.

[FR Doc. 00-5522 Filed 3-6-00; 8:45 am]

BILLING CODE 6055-01-M